NUCLEAR REGULATORY COMMISSION

[Docket No. 50-344]

Portland General Electric, Trojan Nuclear Plant; Environmental Assessment and Finding of No Significant Impact

The U.S. Nuclear Regulatory Commission (the Commission) is considering issuance of an amendment to Facility Operating License No. NPF-1 issued to Portland General Electric Company (PGE), the licensee, for the Trojan Nuclear Plant, a permanently shutdown nuclear reactor facility located in Prescott, Oregon.

Environmental Assessment

Identification of Proposed Action

The proposed action would revise the Trojan Nuclear Plant (TNP) Permanently Defueled Technical Specifications (PDTS) by removing Figure 4.1-1, “Site and Exclusion Area Boundaries,” from Section 4.0, “Design Features,” and incorporate the applicable portion of this figure in the Trojan Nuclear Plant Defueled Safety Analysis Report (DSAR). The proposed action would also make other associated administrative changes resulting from the deletion of Figure 4.1-1, as well as an editorial change to the table of contents. The proposed action is in accordance with the licensee's application for amendment dated November 16, 1999.

The Need for the Proposed Action

The licensee proposed to remove the Trojan site map from the PDTS and incorporate the applicable portion of this figure in the TNP DSAR as part of the NRC's technical specification (TS) improvement initiative which encourages licensees to request removal of inappropriate and/or unnecessary information from their TSs. This type of site-specific information is not required to be in TSs under 10 CFR 50.36 requirements. Furthermore, this proposed change is consistent with NRC guidance in draft NUREG-1625, “Proposed Standard Technical Specifications (TS) for Permanently Defueled Westinghouse Plants.” In concert with Section 50.36 requirements, NUREG-1625 provides guidance in determining a minimum set of standard requirements for permanently shutdown reactor facilities. Additional editorial and administrative changes were also proposed for consistency with the change discussed above.

Environmental Impacts of the Proposed Action

The Commission has completed its evaluation of the proposed amendment to the TNP TSs and concludes that issuance of the proposed amendment will not have an environmental impact. The proposed change in TS site-specific information is consistent with the regulations and regulatory guidance and is considered editorial and administrative in nature. The licensee does not propose any disposal or relocation of nuclear fuel or any changes to structures, systems, components, or site boundaries.

The proposed action will not increase the probability or consequences of accidents, no changes are being made in the types of any effluents that may be released off site, and there is no significant increase in occupational or public radiation exposure. Therefore, there are no significant radiological environmental impacts associated with the proposed action.

With regard to potential non-radiological impacts, the proposed action does not involve any historical sites. It does not affect non-radiological plant effluents and has no other environmental impact. Therefore, there are no significant non-radiological environmental impacts associated with the proposed action.

Accordingly, the Commission concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Trojan plant.

Agencies and Persons Contacted

In accordance with its stated policy, on March 13, 2000, the staff consulted with the State of Oregon official, Mr. Adam Bless of the Oregon Office of Energy, regarding the environmental impact of the proposed action. The State official had no comments.

Finding of No Significant Impact

On the basis of the environmental assessment, the Commission concludes that the proposed action will not have a significant effect on the quality of the human environment. Accordingly, the Commission has determined not to prepare an environmental impact statement for the proposed action.

For further details with respect to the proposed action, see the licensee's letter dated November 16, 1999, which is available for public inspection at the Commission's Public Document Room, The Gelman Building, 2120 L Street, NW., Washington, DC. Publicly available records will be accessible electronically from the ADAMS Public Library component on the NRC Web site, http:\\www.nrc.gov (the Electronic Reading Room).

Dated at Rockville, Maryland, this 7th day of April 2000.
For the Nuclear Regulatory Commission.
John B. Hickman,
Project Manager, Decommissioning Section, Project Directorate IV & Decommissioning, Division of Licensing Project Management, Office of Nuclear Reactor Regulation.

[FR Doc. 00-9625 Filed 4-17-00; 8:45 am]

BILLING CODE 7590-01-P